DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 22, 2007.

Interested persons are invited to submit written comments regarding the subject matter of the investigations to the Director, Division of Trade Adjustment Assistance, at the address shown below, not later than October 22, 2007.

The petitions filed in this case are available for inspection at the Office of the Director, Division of Trade Adjustment Assistance, Employment and Training Administration, U.S. Department of Labor, Room C-5311, 200 Constitution Avenue, NW., Washington, DC 20210.

Signed at Washington, DC, this 2nd day of October 2007.
Ralph DiBattista,
Director, Division of Trade Adjustment Assistance.

Appendix
[TAA Petitions Instituted Between 9/24/07 and 9/28/07]
TA-W | Subject firm (petitioners) | Location | Date of institution | Date of petition
62189 | Diaz Intermediates Corp. (Wkrs) | West Memphis, AR | 09/24/07 | 09/21/07
62190 | Steelcase, Inc. (Comp) | Grand Rapids, MI | 09/24/07 | 09/21/07
62191 | Kurdziel Iron of Rothbury Inc. (Comp) | Rothbury, MI | 09/24/07 | 09/20/07
62192 | TMP Directional Marketing (Wkrs) | Fort Wayne, IN | 09/24/07 | 09/19/07
62193 | ITW Southland (Comp) | Virginia Beach, VA | 09/24/07 | 09/17/07
62194 | Seagroatt Floral Company, Inc. (Comp) | Berlin, NY | 09/24/07 | 09/21/07
62195 | Deluxe Media Services, LLC (Wkrs) | Wayne, MI | 09/24/07 | 09/18/07
62196 | Carlisle Tire and Wheel (Comp) | Slinger, WI | 09/24/07 | 09/21/07
62197 | Texas Instruments Incorporated (Comp) | Dallas, TX | 09/25/07 | 09/24/07
62198 | Shorewood Packaging (State) | Waterbury, CT | 09/25/07 | 09/24/07
62199 | Faith Technologies (State) | Appleton, WI | 09/25/07 | 09/24/07
62200 | Plum Creek-Ksanka (Wkrs) | Fortine, MT | 09/25/07 | 09/21/07
62201 | Head Lites (State) | Woodbury Drive, MN | 09/26/07 | 09/25/07
62202 | CCC Associates (Comp) | Montgomery, AL | 09/26/07 | 09/25/07
62203 | HDM Furniture Industries, Inc. (Comp) | Morganton, NC | 09/26/07 | 09/25/07
62204 | Lenox China (State) | Pomona, NJ | 09/26/07 | 09/25/07
62205 | Gemtron Corporation (Comp) | Holland, MI | 09/26/07 | 09/10/07
62206 | Liz Claiborne, Inc. (Union) | North Bergen, NJ | 09/26/07 | 09/19/07
62207 | Diaz Intermediates Corporation (Comp) | Brockport, NY | 09/26/07 | 09/25/07
62208 | Tyco Flow Control (Comp) | Houston, TX | 09/26/07 | 09/25/07
62209 | Lear Corporation (Wkrs) | Walker, MI | 09/26/07 | 09/25/07
62210 | Dexter Chemical LLC (Comp) | Bronx, NY | 09/26/07 | 09/25/07
62211 | Strick Corporation (Comp) | Monroe, IN | 09/27/07 | 09/19/07
62212 | Eastman Kodak Company (Comp) | Rochester, NY | 09/27/07 | 09/18/07
62213 | J.P. Price Lumber Company (State) | Monticello, AR | 09/27/07 | 09/26/07
62214 | Ford Motor Company (UAW) | Louisville, KY | 09/27/07 | 09/24/07
62215 | Intuit (Comp) | Plano, TX | 09/27/07 | 09/26/07
62216 | Woolrich, Inc. (Comp) | Woolrich, PA | 09/27/07 | 09/26/07
62217 | Hershey Chocolate and Confectionery Corporation (Comp) | Oakdale, CA | 09/27/07 | 09/26/07
62218 | Neilsen Manufacturing, Inc. (State) | Salem, OR | 09/27/07 | 09/25/07
62219 | TFI Carysbrook Plant (Comp) | Fork Union, VA | 09/28/07 | 09/27/07
62220 | Agrium U.S. Inc. (Comp) | Kenai, AL | 09/28/07 | 09/26/07
62221 | T. P. Corporation (Comp) | Duryea, PA | 09/28/07 | 09/27/07
62222 | Guildcraft of California (State) | Rancho Dominguez, CA | 09/28/07 | 09/27/07
62223 | Bodine Assembly and Test Systems (State) | Bridgeport, CT | 09/28/07 | 09/28/07

[FR Doc. E7-20110 Filed 10-11-07; 8:45 am]

BILLING CODE 4510-FN-P